DEPARTMENT OF COMMERCE

Foreign-Trade Zones Board

[Order No. 1240]

Expansion of Foreign-Trade Zone 57, Charlotte, NC, Area

Pursuant to its authority under the Foreign-Trade Zones Act of June 18, 1934, as amended (19 U.S.C. 81a-81u), the Foreign-Trade Zones Board (the Board) adopts the following Order:

Whereas, the North Carolina Department of Commerce, grantee of Foreign-Trade Zone 57, submitted an application to the Board for authority to expand FTZ status to eight additional sites (2,045 acres) in the Counties of Burke, Caldwell, Alexander and Catawba in North Carolina (Sites 4-11), adjacent to the Charlotte Customs port of entry (FTZ Docket 30-2001; filed 7/3/01; amended 4/29/02);

Whereas, notice inviting public comment was given in the Federal Register (66 FR 36250, 7/11/01) and the application, as amended, has been processed pursuant to the FTZ Act and the Board's regulations; and,

Whereas, the Board adopts the findings and recommendations of the examiner's report, and finds that the requirements of the FTZ Act and Board's regulations are satisfied, and that the proposal, as amended, is in the public interest;

Now, therefore, the Board hereby orders:

The application, as amended, to expand FTZ 57 is approved, subject to the Act and the Board's regulations, including Section 400.28, and subject to the Board's standard 2,000-acre activation limit for the overall zone project, and further subject to a sunset provision that would terminate authority for the proposed sites on September 1, 2009, unless the sites are activated under FTZ procedures.

Signed at Washington, DC, this 29th day of July 2002.
Faryar Shirzad,
Assistant Secretary of Commerce for Import Administration, Alternate Chairman, Foreign-Trade Zones Board.

[FR Doc. 02-20074 Filed 8-7-02; 8:45 am]

BILLING CODE 3510-DS-P